DEPARTMENT OF COMMERCE

National Oceanic and Atmospheric Administration

[I.D. 041100A]

Marine Mammals; File No. 978-1567

AGENCY: National Marine Fisheries Service (NMFS), National Oceanic and Atmospheric Administration (NOAA), Commerce.

ACTION: Receipt of application.

SUMMARY: Notice is hereby given that Paul E. Nachtigall, Ph.D., Director, Marine Mammal Research Program, Hawaii Institute of Marine Biology, University of Hawaii, P.O. Box 1106, Kailua, Hawaii 96734, has applied in due form for a permit to take two species of cetaceans for purposes of scientific research.

DATES: Written or telefaxed comments must be received on or before May 25, 2000.

ADDRESSES: The application and related documents are available for review upon written request or by appointment in the following office(s):

Permits and Documentation Division, Office of Protected Resources, NMFS, 1315 East-West Highway, Room 13705, Silver Spring, MD 20910 (301/713-2289);

Regional Administrator, Southwest Region, NMFS, 501 West Ocean Blvd., Suite 4200, Long Beach, CA 90802-4213 (562/980-4027); and

Protected Species Program Manager, Pacific Islands Area Office, NMFS, NOAA, 1601 Kapiolani Boulevard, Suite 1110, Honolulu, Hawaii 96814-4700 (808/973-2935).

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

FOR FURTHER INFORMATION CONTACT: Jeannie Drevenak, 301/713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant is requesting authorization to conduct scientific research (i.e., investigation of basic hearing processes, low frequency hearing capabilities, and echolocation systems) on two species of captive odontocete cetaceans: four (4) Atlantic bottlenose dolphins (Tursiops truncatus) and one (1) false killer whale (Pseudorca crassidens). Experimental trials will be conducted to: (1) obtain hearing thresholds and to measure the effects of sound on the hearing of the animals; and (2) obtain information on the dolphins' echolocation systems. The research will be conducted over a five-year period.

Custody of the subject animals would be transferred from the U.S. Navy (SPAWARSYSCEN San Diego) to the University of Hawaii's Marine Mammal Research Program at The Hawaii Institute of Marine Biology. Since the animals are currently housed at the University of Hawaii, the animals' physical location will not change.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: April 18, 2000.
Ann D. Terbush,
Chief, Permits and Documentation Division, Office of Protected Resources, National Marine Fisheries Service.

[FR Doc. 00-10304 Filed 4-24-00; 8:45 am]

BILLING CODE 3510-22-F